DEPARTMENT OF AGRICULTURE

Rural Housing Service

[Docket No. RHS-24-MFH-0010]

Notice of Solicitation of Applications for Section 514 Off-Farm Labor Housing Loans and Section 516 Off-Farm Labor Housing Grants for New Construction for Fiscal Year 2024

AGENCY: Rural Housing Service, United States Department of Agriculture.

ACTION: Notice of Solicitation of Applications (NOSA).

SUMMARY: The Rural Housing Service (RHS or Agency), a Rural Development (RD) agency of the United States Department of Agriculture (USDA), announces that it is soliciting competitive pre-applications for Section 514 Off-Farm Labor Housing (Off-FLH) loans and Section 516 Off-FLH grants for the construction of new Off-FLH units for domestic farm laborers, retired domestic farm laborers, or disabled domestic farm laborers. The program objective is to increase the supply of affordable housing for farm laborers. This Notice describes the method used to distribute funds, the pre-application and final application process, and submission requirements.

DATES: Eligible pre-applications submitted to the Production and Preservation Division, Processing and Report Review Branch, for this Notice will be accepted until July 3, 2024, 12:00 p.m., Eastern Time. Applications that are deemed eligible but are not selected for further processing due to inadequate funding will be withdrawn from processing. RHS will not consider any application that is received after the established deadlines unless the date and time are extended by another Notice published in the Federal Register. The RHS may at any time supplement, extend, amend, modify, or supersede this Notice by publishing another Notice in the Federal Register. Additional information about this funding opportunity can be found on the Grants.gov website at http://www.grants.gov.

The application deadlines are as follows:

1. Available loan and grant funding posted to the RHS Multifamily Housing (MFH) website by April 19, 2024.

2. Pre-applications must be submitted by July 3, 2024, 12 p.m., Eastern Time.

3. RHS pre-application notice to proceed and non-selection notifications to applicants by September 3, 2024.

4. Final applications must be submitted by October 16, 2024, 12 p.m., Eastern Time.

5. Awards communicated to applicants by December 16, 2024.

6. Awards posted to the RHS website by January 14, 2025.

ADDRESSES: Applications to this Notice must be submitted electronically to the Production and Preservation Division, Processing and Report Review Branch.

At least three business days prior to the application deadline, the applicant must email the RHS a request to create a shared folder in CloudVault. The email must be sent to the following address: Off-FLHapplication@usda.gov. The email must contain the following information:

1. Subject line: “Off-FLH New Construction Application Submission.”

2. Body of email: Borrower Name, Project Name, Borrower Contact Information, Project State.

3. Request language: “Please create a shared CloudVault folder so that we may submit our new construction application documents.”

Once the email request to create a shared CloudVault folder has been received, a shared folder will be created within two business days. When the shared CloudVault folder is created by the RHS, the system will automatically send an email to the applicant's submission email address with a link to the shared folder. All required application documents in accordance with this Notice must be loaded into the shared CloudVault folder. The applicant's access to the shared CloudVault folder will be removed when the submission deadline is reached. Any document uploaded to the shared CloudVault folder after the application deadline will not be reviewed or considered. Please note: CloudVault is a USDA‐approved cloud‐based file sharing and synchronization system. CloudVault folders are neither suitable nor intended for file storage due to agency file retention policies and space limitations. Therefore, the agency will remove all application-related files stored in shared CloudVault folders the latter of either 180 days from the application date, or once the application has been processed and the transaction has been closed.

FOR FURTHER INFORMATION CONTACT: Jonathan Bell, Branch Director, Processing and Report Review Branch, Production and Division, Multifamily Housing Programs, Rural Development, United States Department of Agriculture, via email: MFHprocessing1@usda.gov or phone at: 202-205-9217.

SUPPLEMENTARY INFORMATION:

Authority

This solicitation is authorized pursuant to the Title V of the Housing Act of 1949 (Pub. L. 81-171), as amended; 7 CFR 3560, subpart L; 42 U.S.C. 1484; 42 U.S.C. 1486; and 42 U.S.C. 1480.

RD: Key Priorities

RD will continue to support and promote activities and investments that will achieve the following:

1. Creating More and Better Market Opportunities: Assisting rural communities recover economically through more and better market opportunities and through improved infrastructure.

2. Addressing Climate Change and Environmental Justice: Reducing climate pollution and increasing resilience to the impacts of climate change through economic support for rural communities.

3. Advancing Racial Justice, Place-Based Equity, and Opportunity: Ensuring all rural residents have equitable access to RD programs and benefits from RD funded projects. For further information, visit https://www.rd.usda.gov/priority-points.

Background

USDA's RD Agencies, comprised of the Rural Business-Cooperative Service (RB-CS), Rural Housing Service (RHS), and the Rural Utilities Service (RUS), are leading the way in helping rural America improve the quality of life and increase the economic opportunities for rural people. RHS offers a variety of programs to build or improve housing and essential community facilities in rural areas. The Agency also offers loans, grants, and loan guarantees for single-family and multi-family housing, child-care centers, fire and police stations, hospitals, libraries, nursing homes, schools, first responder vehicles and equipment, housing for farm laborers and much more. The Agency also provides technical assistance loans and grants in partnership with non-profit organizations, Indian tribes, state and Federal government agencies, and local communities.

Sections 514 and 516 of the Housing Act of 1949 allows the RHS to provide competitive loan financing and grants, respectively, for affordable multifamily rental housing. Funds will be used to construct new Off-FLH properties to serve domestic farm laborers, retired domestic farm laborers, or disabled domestic farm laborers.

To focus investments in areas where the need for increased prosperity is greatest, the RHS will set aside 10 percent of the available funds for applications that will serve persistent poverty counties. The term “persistent poverty counties” means any county that has had 20 percent or more of its population living in poverty over the past 30 years, as measured by the 1990 and 2000 decennial censuses and 2007-2011 American Community Survey 5-year average, or any territory or possession of the United States. Information on which counties are considered persistent poverty counties can be found through using the following link (Persistent Poverty Counties (arcgis.com) provided by the USDA's RD Innovation Center. Set-aside funds will be awarded in point score order, starting with the highest score. Once the set-aside funds are exhausted, any further set-aside applications will be evaluated and ranked with the other applications submitted in response to this Notice. If the RHS does not receive enough eligible applications to fully utilize the 10 percent set aside in the service of these areas, the RHS will award any unused set aside funds to other eligible applicants.

Overview

Federal Agency: Rural Housing Service.

Funding Opportunity Title: Notice of Solicitation of Applications for Section 514 Off-Farm Labor Housing Loans and Section 516 Off-Farm Labor Housing Grants for New Construction for Fiscal Year 2024.

Funding Opportunity Number: USDA-RD-HCFP-OFFFLH-NEW-2024.

Available Funds: Available loan and grant funding amounts for new construction can be found at the following link: https://www.rd.usda.gov/programs-services/farm-labor-housing-direct-loans-grants.

Maximum Award: All awards are subject to the availability of funding. Total Award amounts for Section 514 loans and Section 516 grants under this notice for Off-FLH may not exceed the per unit, as adjusted by number of bedrooms, Basic Statutory Mortgage Limits published by the U.S. Department of Housing & Urban Development for the 221(d)(4) program for elevatored building as follows:

Section 221(d)(4)—Moderate Income Housing
Bedrooms | Per unit limit
0 | $66,591
1 | 76,340
2 | 92,831
3 | 120,090
4+ | 131,826

The maximum award per selected project may not exceed $5 million (total loan and grant).

Announcement Type: Request for applications from qualified applicants for Fiscal Year 2024.

Assistance Listing Number: 10.405.

Please Note: Expenses incurred in developing applications will be at the applicant's sole risk.

A. Federal Award Description

1. A state will not receive more than 30 percent of the Off-FLH funding (excluding awards made to Federally Recognized Tribes or Tribally Designated Housing Entities) unless there are remaining Section 514 and Section 516 funds after all eligible applications nationwide have been funded. In this case, funds will be awarded to the next highest-ranking eligible applications among all of the remaining unfunded applications. The allocation of these funds may result in a state or states exceeding the 30 percent limitation.

2. Section 516 Off-FLH grants must not exceed the limits set forth in 7 CFR 3560.562(c). Total Development Cost (TDC) is defined in 7 CFR 3560.11. Section 514 Off-FLH loans may not exceed the limits set forth in 7 CFR 3560.562(b).

3. All award commitments will be valid for a period of twelve months. Applicants dependent upon third-party funding, including but not limited to local, state, and federal resources through competitive and noncompetitive application rounds, must obtain and submit to the Agency a firm commitment letter for those funds, upon receipt, but no later than the twelve-month time frame, as specified in the award commitment. An extension of the award commitment of up to six months may be given, at the sole discretion of the Agency, and will be based on project viability, current program demand, and availability of program funds. Applicants unable to satisfy this condition of the award commitment will be subject to having the award rescinded and will be required to reapply in future funding announcements.

4. A firm commitment letter is defined as a lender's unqualified pledge to the borrower that they have passed their underwriting guidelines, and they are willing to offer the borrower a loan and/or grant under specified terms. The letter validates that the borrower's financing has been fully approved and that the lender is prepared to close the transaction. Preliminary commitment letters, term sheets, or any other letter from the lender that does not meet the definition above will not be considered a firm commitment letter and will not meet the requirements specified in this Notice.

5. Rental Assistance (RA) and Operating Assistance (OA) may be available for projects funded under this Notice, subject to the availability of funds. OA is described in 7 CFR 3560.574 and may be used in lieu of tenant-specific RA in Off-FLH projects financed under Section 514 or Section 516(i) of the Housing Act of 1949 (42 U.S.C. 1484 and 1486(i) respectively) that serve migrant farmworkers as defined in 7 CFR 3560.11. Owners of eligible projects may choose tenant-specific RA as described in § 3560.573 or OA, or a combination of both, however, any tenant or unit assisted under § 3560.574 may not receive rental assistance under § 3560.573. To request RA and/or OA, applicants must submit form RD 3560-25, Initial Request for Rental Assistance or Operating Assistance.

6. To maximize the use of the limited supply of FLH funds, the RHS may contact eligible applicants selected for an award with proposals to modify the transaction's proportions of loan and grant funds. Such applicants will be contacted in point score order, starting with the highest score. In addition, if funds remain after the highest scoring eligible applications are selected for awards, the RHS may contact those eligible applicants selected for the awards, in point score order, starting with the highest score, to ascertain whether those respondents will accept the remaining funds.

7. To enhance customer service and the transparency of this program, RHS will publish a list of awardees and the loan and/or grant amounts of their respective awards in accordance with the dates listed in this Notice. This information can be found at: https://www.rd.usda.gov/programs-services/farm-labor-housing-direct-loans-grants. RHS reserves the right to post all information submitted as part of the pre-application and final application package that is not protected under the Privacy Act on a public website with free and open access to any member of the public.

B. Eligibility Information

1. Housing Eligibility

Housing that is constructed with FLH loans and/or grant funds must meet RHS's design and construction standards contained in 7 CFR part 1924, subparts A and C. All projects must comply with current building codes and standards. Better building performance efforts are rewarded in the section Building Performance and Climate Resilience under section (12) Addressing Climate Change and Environmental Justice. Once constructed, Off-FLH must be managed in accordance with 7 CFR part 3560. In addition, Off-FLH must be operated on a non-profit basis and tenancy must be open to all qualified domestic farm laborers, regardless of which farm they work. Section 514(f)(3) of the Housing Act of 1949, as amended (42 U.S.C.1484(f)(3)) defines domestic farm laborers to include any person regardless of the person's source of employment, who receives a substantial portion of his/her income from the primary production, handling, or processing of agricultural or aqua cultural commodities, and also includes the person's family.

2. Tenant Eligibility

Tenant eligibility is limited to persons who meet the definition of a “domestic farm laborer,” a “disabled domestic farm laborer,” or a “retired domestic farm laborer” as defined in Section 514(f)(3) of the Housing Act of 1949, as amended (42U.S.C. 1484(f)(3)).

Section 514(f)(3)(A) of the Housing Act of 1949 (42 U.S.C. 1484(f)(3)(A)) has been amended to extend FLH tenant eligibility to agricultural workers legally admitted to the United States and authorized to work in agriculture.

Owners are responsible for verifying tenant income eligibility. Only very-low or low-income households are eligible for the operating assistance rents or RA. Households with incomes above the low-income limits must pay the full rent.

In accordance with 7 CFR 3560.554, off-farm labor housing may be used to serve migrant farmworkers, as defined in 7 CFR 3560.11. Migrants or migrant agricultural laborer is a person (and the family of such person) who receives a substantial portion of his or her income from farm labor employment and who establishes a residence in a location on a seasonal or temporary basis, in an attempt to receive farm labor employment at one or more locations away from their home base state, excluding day-haul agricultural workers whose travels are limited to work areas within one day of their residence.

Seasonal housing is housing that is operated on a seasonal basis, typically for migrants or migrant agricultural laborers as opposed to year-round. Off- FLH loan and grant funds may be used to provide facilities for seasonal or temporary residential use with appropriate furnishings and equipment. A temporary residence is a dwelling which is used for occupancy, usually for a short period of time, but is not the legal residence for the occupant.

The design and construction requirements established in § 3560.60 apply to all applications for Off-FLH loans and grants except that seasonal Off-FLH that will be occupied for eight months or less per year by migrant farmworkers while they are away from their residence, may be constructed in accordance with Exhibit I of 7 CFR part 1924, subpart A.

For Off-FLH operating on a seasonal basis, the management plan must establish specific opening and closing dates.

Off-FLH is subject to the tenant contribution and rental unit rent requirements for Plan II housing established under 7 CFR part 3560, subpart E, except where seasonal housing will be occupied for less than a three-month period. In such instances the best available and practical income verification methods may be used with prior approval of RHS.

For housing rented to farm laborers and owned by public bodies, public or private nonprofit organizations, and limited partnerships, when charging rent, households must meet the income requirements outlined in 7 CFR 3560.576(b)(2)(i)(A).

3. Applicant Eligibility

(a) To be eligible to receive a Section 514 loan for Off-FLH, the applicant must meet the requirements of 7 CFR 3560.555(a) and (1) be a broad-based non-profit organization, a non-profit organization of farmworkers, a Federally recognized Indian tribe, a community organization, or an Agency or political subdivision of state or local Government, and must meet the requirements of § 3560.55, excluding § 3560.55(a)(6), or (2) be a limited partnership with a non-profit general partner which meets the requirements of § 3560.55(d). A broad-based non- profit organization is a non-profit organization that has a membership that reflects a variety of interests in the area where the housing will be located.

(b) To be eligible to receive a Section 516 grant for Off-FLH, the applicant must meet the requirements of 7 CFR 3560.555(b) and (1) be a broad-based non- profit organization, a non-profit organization of farmworkers, a federally recognized Indian tribe, a community organization, or an agency or political subdivision of State or local Government, and must meet the requirements of § 3560.55, excluding § 3560.55(a)(6), and (2) be able to contribute at least one-tenth of the total FLH development cost from its own or other resources. A broad-based non- profit organization is a non-profit organization that has a membership that reflects a variety of interests in the area where the housing will be located . The applicant's contribution must be available at the time of the grant closing. An Off-FLH loan financed by RHS may be used to meet this requirement, however, an RHS grant cannot be used to meet this requirement. Limited partnerships with a non-profit general partner are eligible for Section 514 loans; however, they are not eligible for Section 516 grants.

(c) The applicant must be unable to provide the necessary housing from their own resources and be unable to obtain credit from any other source upon terms and conditions which the applicant could reasonably be expected to fulfill.

(d) Broad-based non-profit organizations must have a membership that reflects a variety of interests in the area where the housing will be located.

4. Other Requirements

The following requirements apply to loans and grants made in response to this Notice:

(a) 7 CFR part 1901, subpart E, regarding equal opportunity requirements;

(b) For grants only, 2 CFR parts 200 and 400, which establishes the uniform administrative and audit requirements for grants and cooperative agreements to State and local Governments and to non-profit organizations;

(c) 7 CFR part 1901, subpart F, regarding historical and archaeological properties;

(d) 7 CFR 1970.11, Timing of the environmental review process. Please note, the environmental information must be submitted by the applicant to RHS. RHS must review and determine that the environmental information is acceptable before the obligation of funds;

(e) 7 CFR part 3560, regarding the loan and grant authorities of the Off-FLH program;

(f) 7 CFR part 1924, subpart A, regarding the planning and performing of construction and other development;

(g) 7 CFR part 1924, subpart C, regarding the planning and performing of site development work;

(h) For construction utilizing a Section 516 grant, the provisions of the Davis-Bacon Act (40 U.S.C. chapter 31, subchapter IV) and implementing regulations published at 29 CFR parts 1, 3, and 5;

(i) Applicants must be financially stable and provide proof of credit worthiness.

(j) Borrowers and grantees must take reasonable steps to ensure that tenants receive the language assistance necessary to afford them meaningful access to USDA programs and activities, free of charge. Failure to provide this assistance to tenants who can effectively participate in or benefit from Federally assisted programs or activities may violate the prohibition under Title VI of the Civil Rights Act of 1964, 42 U.S.C. 2000d et seq.

(k) In accordance with 7 CFR 3560.60, the housing must be economical to construct, operate, and maintain and must not be of elaborate design or materials.

(l) The agency promotes the protection of outdoor workers from heat illness. Applicants are encouraged to include amenities in the project that help prevent heat illness or promote recovery from potential impacts of exposure to heat illness.

(m) All program applicants, unless exempt under 2 CFR 25.110(b), (c), or (d), are required to:

i. Be registered in System Award Management (SAM) before submitting their applications;

ii. Provide a valid Unique Entity ID (UEI) in their applications; and

iii. Continue to maintain an active SAM registration with current information at all times during which they have an active Federal award or an application or plan under consideration by a Federal awarding agency.

The Federal awarding agency may not make a Federal award to an applicant until the applicant has complied with all applicable SAM requirements and, if an applicant has not fully complied with the requirements by the time the Federal awarding agency is ready to make a Federal award, the Federal awarding agency may determine that the applicant is not qualified to receive a Federal award and use that determination as a basis for making a Federal award to another applicant. SAM is the Official U.S. Government system for collection of forms for acceptance of a federal award through the registration or annual recertification process. Applicants may register for SAM at https://www.sam.gov or by calling 1-866-606-8220. The applicant must ensure that the information in the database is current, accurate, and complete. On April 4, 2022, the unique entity identifier used across the federal government changed from the DUNS Number to the UEI (generated by SAM.gov). As required by the Office of Management and Budget (OMB), all applications must provide a UEI number when applying for Federal assistance. Instructions for obtaining the UEI are available at https://sam.gov/content/entity-registration. Applicants must ensure they complete the Financial Assistance General Certifications and Representations in SAM. Similarly, all recipients of Federal financial assistance are required to report information about first-tier subawards and executive compensation in accordance with 2 CFR part 170. So long as an entity applicant does not have an exception under 2 CFR 170.110(b), the applicant must have the necessary processes and systems in place to comply with the reporting requirements should the applicant receive funding. See 2 CFR 170.200(b).

Additional information concerning these requirements can be obtained on the Grants.gov website at http://www.grants.gov. The applicant must provide documentation that they are registered in SAM and their UEI number or the application will not be considered for funding. The following forms for acceptance of a federal award are now collected through the registration or annual recertification in SAM.gov in the Financial Assistance General Certifications and Representations section:

• Form AD-1047, “Certification Regarding Debarment, Suspension, and Other Responsibility Matters-Primary Covered Transactions.”

• Form AD-1048, “Certification Regarding Debarment, Suspension, Ineligibility and Voluntary Exclusion. Lower Tier Covered Transactions.”

• Form AD-1049, “Certification Regarding Drug-Free Workplace Requirements (Grants).”

• Form AD-3031, “Assurance Regarding Felony Conviction or Tax Delinquent Status for Corporate Applicants.”

• Form AD-3030, “Representations Regarding Felony Conviction and Tax Delinquent Status for Corporate Applicants.”

C. Pre-Application and Submission Information

The application process will be in two phases: The initial pre-application and the submission of a final application. Only those pre-applications that are selected for further processing will be invited to submit a final application. In the event that a pre-application is selected for further processing and the applicant declines, the next highest ranked pre-application will be selected for further processing. All pre-applications for Section 514 and Section 516 funds must meet the requirements of this Notice. Incomplete pre-applications will be rejected and returned to the applicant. No pre-application will be accepted after the deadline unless the date and time is extended by another Notice published in the Federal Register.

Applicants are encouraged to include a checklist or Table of Contents of all the application requirements and to index and tab their application to facilitate the review process. Applicants must submit a separate one-page information sheet listing each of the pre-application scoring criteria contained in this Notice, followed by a reference to the page numbers of all relevant material and documentation that is contained in the proposal that supports the criteria.

1. Pre-Application submission process. Pre-applications must be submitted electronically. The process for submitting an electronic application to RHS is as follows:

(a) At least three business days prior to the application deadline, the applicant must email RHS a request to create a shared folder in CloudVault. The email must be sent to the following address: Off-FLHapplication@usda.gov. The email must contain the following information:

i. Subject line: “Off-FLH New Construction Application Submission.”

ii. Body of email: Borrower Name, Project Name, Borrower Contact Information, Project State.

iii. Request language: “Please create a shared CloudVault folder so that we may submit our new construction application documents.”

(b) Once the email request to create a shared CloudVault folder has been received, a shared folder will be created within two business days. When the shared CloudVault folder is created by RHS, the system will automatically send an email to the applicant's submission email with a link to the shared folder. All required application documents in accordance with this Notice must be loaded into the shared CloudVault folder. When the submission deadline is reached, the applicant's access to the shared CloudVault folder will be removed. Any document uploaded to the shared CloudVault folder after the application deadline will not be reviewed or considered.

(c) The applicant should upload a Table of Contents of all of the documents that have been uploaded to the shared CloudVault folder. Last-minute requests and submissions may not allow adequate time for the submission process to take place prior to the deadline. Applicants are reminded that all submissions must be received by the deadline and the application will be rejected if it is not received by the deadline date and time, regardless of when the application was submitted.

2. Pre-Application Requirements. The application must contain the following:

(a) An executed and dated Executive Summary on the applicant's letterhead that must include at least the following:

i. Brief description of the proposed project. Be sure to address if the project will be used year-round or seasonally and to what construction standards the housing will be built.

ii. Document the need for the project. The applicant must document that the housing and related facilities will fulfill a pressing need in the area in which the project will be located.

iii. Description of the proposed ownership structure with an organizational chart.

iv. Narrative verifying the applicant's ability to meet the eligibility requirements stated earlier in this Notice.

v. A statement of the applicant's experience in operating labor housing or other rental housing. If the applicant's experience is limited, additional information should be provided to indicate that the applicant plans to compensate for this limited experience (e.g., by obtaining assistance and advice of a management firm, non-profit group, public agency, or other organization which is experienced in rental management and will be available on a continuous basis).

vi. Description of the applicant's legal and financial capability to carry out the obligation of the loan and/or grant.

vii. Proposed management. A brief statement explaining the applicant's proposed method of operation and management (e.g., on-site manager, contract for management services, or other method.). As stated earlier in this Notice, the housing must be managed in accordance with the program's management regulations, 7 CFR part 3560.

viii. Description and proof of established site control.

ix. Proposed Return to Owner (RTO), if applicable.

x. Any financial commitments, financial concessions, or other economic benefits proposed to be provided by RHS.

xi. Third-party funding, if applicable. For each third-party funding source or leveraged funds, discuss briefly the funding provider, funding amount, including terms, commitment status, timing issues such as any proposed closing dates, any restrictions that will be applicable to the project, and whether any accommodation from RHS is proposed, such as a lien position other than first. The desired lien position of any third-party funding source must be clearly disclosed as well as any proposal for RHS to accept a second lien position.

xii. Any proposed compensation to parties having an identity of interest with either the seller, purchaser, consultant, or Technical Assistance (TA) provider.

xiii. Any proposed construction financing, for example, a construction or bridge loan or the use of multiple advances.

xiv. Type and method of construction such as negotiated bid or contractor method.

xv. If a FLH grant is desired, a statement concerning the need for a FLH grant. The statement must include estimates of the rents required with a grant and rents required without a grant. Documentation to demonstrate how the rent figures were computed must be provided. Documentation must be in the form of a completed Form RD 3560-7 “Multiple Family Housing Project Budget/Utility Allowance” completed as if a grant was received and another form completed as if a grant would not be received. RHS will review each budget to determine that the income and expenses are reasonable and customary for the area.

xvi. If RA or OA is requested, a statement concerning the need for the RA or OA and a statement concerning the specific number of units of RA or OA that is needed. Strong and detailed justification must be provided for requests of 100 percent RA or OA.

xvii. In accordance with § 3560.63(f), all applicants must agree in writing to provide funds at no cost to the housing and without pledging the housing as security to pay cost overruns for completing planned construction after the maximum debt limit is reached.

xviii. Estimated development timeline to include estimated start and end date as well as any other important milestones such as a required closing date.

xix. Description of any required site development such as building roads, obtaining easements, installing utilities, verification that there is proper site access, and any state or local approvals such as zoning.

xx. Description of the required and intended applicant contribution.

xxi. Any other pertinent information that the applicant feels should be disclosed as part of this proposal.

(b) Provide the following forms and certifications:

i. Standard Form 424 “Application for Federal Assistance” which can be obtained at: https://www.grants.gov/.

ii. Form RD 3560-30, “Certification of no Identity of Interest (IOI),” if applicable, can be found at: http://forms.sc.egov.usda.gov/efcommon/eFileServices/eForms/RD3560-30.PDF.

iii. Form RD 3560-31, “Identity of Interest Disclosure/Qualification Certification” if applicable, can be found at: http://forms.sc.egov.usda.gov/efcommon/eFileServices/eForms/RD3560-31.PDF.

An IOI is defined in 7 CFR 3560.11. RHS will review Form RD 3560-30 and Form RD 3560-31, as applicable, to determine if they are completed in accordance with the Forms Manual Insert and to determine that all IOI's have been disclosed. TA will not be funded by RHS when an IOI exists between the TA provider and the loan or grant applicant.

iv. Form HUD 2530, “Previous Participation Certification” can be found at: https://www.hud.gov/sites/dfiles/OCHCO/documents/2530.pdf.

v. Form RD 400-4, “Assurance Agreement” can be found at: http://forms.sc.egov.usda.gov/efcommon/eFileServices/eForms/RD400-4.PDF.

vi. RD Instruction 1940-Q, Exhibit A- 1, “Certification for contracts, grants and loans,” can be found at: https://www.rd.usda.gov/files/1940q.pdf.

vii. Form RD 1910-11, “Applicant Certification, Federal Collection Policies for Consumer or Commercial Debts” can be found at: https://forms.sc.egov.usda.gov/efcommon/eFileServices/eForms/RD1910-11.PDF.

viii. Form RD 400-1, “Equal Opportunity Agreement,” can be found at: https://formsadmin.sc.egov.usda.gov/eFormsAdmin/browseFormsAction.do?pageAction=displayPDF&formIndex=2.

(c) Provide the following financial and organizational information:

i. Current (within six months of this Notice's pre-application submission due date) financial statements for each entity within the ownership structure with the following paragraph certified by the applicant's designated and legally authorized signer:

“I/we certify the above is a true and accurate reflection of our financial condition as of the date stated herein. This statement is given for the purpose of inducing the United States of America to make a loan or to enable the United States of America to make a determination of continued eligibility of the applicant for a loan as requested in the loan application of which this statement is a part.”

ii. Submit a current (within 6 months from the date of issuance) comprehensive credit reports that contain details of both current open credit accounts and closed accounts for both the entity and the actual individual principals, partners, and members within the applicant entity, including any sub-entities who are responsible for controlling the ownership and operations of the entity. If any of the principals in the applicant entity are not natural persons (including but not limited to corporations, limited liability companies, trusts, partnerships, or limited partnerships), separate comprehensive commercial credit reports must be submitted on those organizations as well. Only credit reports provided by one of the three accredited major credit bureaus (Experian, Equifax, or TransUnion) will be accepted. The Agency will also accept combination comprehensive credit reports which provide a comprehensive view of the applicant's credit profile by combining data from all three major credit bureaus (Experian, Equifax, and TransUnion). If the credit report(s) is not submitted by the application deadline, the application will be considered incomplete and will not be considered for funding.

iii. Letter from the IRS indicating the applicant's tax identification number.

iv. Organizational applicants must provide to their attorney acceptable evidence of U.S. citizenship and/or qualified alien status. Acceptable evidence of U.S. citizenship may include a valid U.S. birth certificate, a valid U.S. Passport, a valid U.S. Certificate of Naturalization, or other acceptable evidence of U.S. citizenship proposed by the applicant and determined by the Agency. Acceptable evidence of qualified alien status may include valid documentation issued by the U.S. Citizenship and Immigration Services (USCIS), or other acceptable documentation of qualified alien status proposed by the applicant and determined by the Agency.

Attorney Certification. The applicant's attorney must review all applicable evidence to verify U.S. citizenship and/or qualified alien status, must certify that the Agency's U.S. citizenship and/or qualified alien status eligibility requirements are met by all applicants, and must submit the certification for Agency review.

v. Documentation verifying the applicant is registered in SAM and the applicant's UEI number (unless exempt under 2 CFR 25.110(b), (c), or (d)).

vi. If the applicant is a limited partnership, a current and fully executed limited partnership agreement and certificates of limited partnership. If changes are proposed to be made to the limited partnership agreement prior to loan/grant closing, the applicant must provide the proposed limited partnership agreement and certificates of limited partners for any proposed new limited partners. (Agency requirements should be contained in one section of the agreement and their location identified by the applicant or their attorney in a cover sheet.)

vii. If the applicant is a non-profit organization:

a. Tax-exempt ruling from the IRS designating the applicant as a 501(c)(3) or 501(c)(4) organization. If the designation is pending, a copy of the designation request must be submitted.

b. Purpose statement, including the provision of low-income housing.

c. Evidence of organization under Tribal, state and/or local law, or copies of pending applications and a copy of the applicant's charter, Articles of Incorporation, and by-laws.

d. List of Board of Directors including their names, occupations, phone numbers, and addresses.

e. If the applicant is a member or subsidiary of another organization, the organization's name, address, and nature of business.

viii. Certificate of Good Standing.

ix. Attorney Certification. Letter from the applicant's attorney certifying the legal sufficiency of the organizational documents. The attorney must certify:

a. The applicant's legal capacity to successfully operate the proposed project for the life of the loan and/or grant.

b. That the organizational documents comply with RHS regulations.

c. For partnership purchasers, that the term of the partnership extends at least through the latest maturity of all proposed RHS debt.

d. That the organizational documents require prior written RHS approval for any of the following: withdrawal of a general partner of a partnership or limited partnership applicant, withdrawal of any member of a limited liability company applicant, admission of a new general partner to a partnership or limited partnership applicant, admission of any new member to a limited liability company applicant, amending the applicant's organizational documents, and selling all or substantially all of the assets of the applicant.

(d) Provide the following information about the Project:

i. Market feasibility documentation to identify the supply and demand for Off-FLH in the market area. A market study must be submitted. The market area must be clearly identified and may include only the area from which tenants can reasonably be drawn for the proposed project. Documentation must be provided to justify a need within the intended market area for the housing of domestic farm laborers, taking into consideration the pool of applicants that meet the occupancy requirements of the Off-FLH program under 7 CFR 3560.576. The documentation must also consider disabled and retired farm workers and adjusted median incomes of very-low, low, and moderate. The market study must include the following:

a. A complete description of the proposed site and a map showing the site, location of services, and their distances from the site.

b. Names and qualifications of members of the community interviewed during the site visit and a discussion of their comments.

c. Major employers in the area and year established.

d. Employment opportunities and rates for the area for the past 5 years.

e. Services available in the area, including shopping, schools, and medical facilities as well as community services such as recreational, transportation, and day care that are available.

f. Population by year plus the annual increase or decrease for the past 5 years.

g. Population characteristics by age.

h. Number of households by year and number of persons per household for the past 5 years.

i. Historical breakdown of households by owners and renters.

j. Households by income groups.

k. A survey of existing or proposed rental housing, including complex name, location, number of units, bedroom mix, family or elderly type, year built, rent charges, vacancies, waiting lists, amenities, and the availability of RA or other subsidies.

l. Available mobile homes, if part of housing stock.

m. The existing vacancy rate of all available rental units in the community, including houses.

n. Proportionate need for project type.

o. Building permits issued per year for the last 3 years for single and multiple unit dwellings.

p. For proposals where the applicant is requesting LIHTCs, the number of LIHTC units and the maximum LIHTC incomes and rents by unit size. This information will determine the levels of incomes in the market area, which will support the basic rents while also qualifying the applicant for tax credits.

q. The amount of RA and/or OA necessary to ensure the project's success.

r. Major employment data including the name, location, and date of establishment of any major employers within the community; the product or service of each employer; the number of employees; and salary range for each employer; and business permits issued.

s. Housing stock as defined by total number of units: one-unit buildings, two- or more unit buildings, mobile homes, and the number of these lacking some or all plumbing facilities (substandard housing).

t. Number of rent-overburdened households.

u. An expanded analysis of existing vacancy rates for all available rental units in the community, including mobile homes. The analysis must make a distinction between “owned properties,” “available for rent,” and “for sale—not available for rent,” as well as available apartments and other rental units.

v. Population characteristics by age.

w. A projection of housing demand based on:

• Household growth;

• Units constructed since the last U.S. Census;

• Number of owned and rented units;

• Number of replacements; and

• Number of households in the eligible-income range.

x. The annual income level of farmworker families in the area and the probable income of the farm workers who will likely occupy the proposed housing;

y. A realistic estimate of the number of farm workers who remain in the area where they harvest and the number of farm workers who normally migrate into the area. Information on migratory workers should indicate the average number of months the migrants reside in the area and an indication of what type of households are represented by the migrants (i.e., single individuals as opposed to families);

z. General information concerning the type of labor-intensive crops grown in the area and prospects for continued demand for farm laborers;

aa. The overall occupancy rate for comparable rental units in the area, the rents charged, and customary rental practices for these comparable units (e.g., will they rent to large families, do they require annual leases, etc.);

bb. The number, condition, adequacy, rental rates and ownership of units currently used by or available to farm workers;

cc. Information on any proposed new construction of housing units within the market area. The building permit information and pending tax credit applications must be checked for the primary market area;

dd. Documentation verifying that interviews were conducted with farms and other agricultural businesses within the primary market area to inquire if they are in need of additional housing for their employees or if they plan to expand and hire additional employees that will need housing; and

ee. A description of the proposed units, including the number, type, size, rental rates, amenities such as carpets and drapes, related facilities such as a laundry room or a community room, and other facilities providing supportive services in connection with the housing and the needs of the prospective tenants such as a health clinic or day care facility.

ff. All market studies must provide a summary of the sample of farm workers used to document the need for off-farm labor housing. This summary should quantify eligible tenants according to 7 CFR part 3560 subpart L section 3560.577 within the farm worker demographics sample and provide the reference/source of the information.

gg. The market study must also include the following required elements of the market feasibility documentation (MFD):

• Services available in the area include shopping, schools, and medical facilities as well as community services such as recreational, transportation, and day care. Services appear to be appropriate for the project type and within reasonable proximity of the site.

• Building permits issued during the past 3 years and new employment opportunities show the community to be growing, rather than declining.

• Major employers in the area provide employment opportunities sufficient to support a population base of renters for the proposed project.

• Employment rates for the area have been high over the past 5 years.

hh. The analyst makes realistic recommendations supported by the statistical information provided:

• Population characteristics and household data for the community are stable or show an increase during the past 5 years.

• Population characteristics by age shows support for the type of project being proposed, and the type of complex proposed reflects the greater proportionate need and demand of the community. To establish this, compare the share or percentage of the community's total rental units that are designated for the elderly (62 years or older or disabled) to the community's share of elderly households, and the share of total rental units for families to the share of family households in the community. For mixed projects, the unit mix must reflect the proportionate need of each household type.

• Statistical data showing households by income group shows that there are households in the eligible income group that could rent in the project.

• Historical breakdown of households by owners and renters shows that there is a tradition of renters.

• The MFD addresses the need for more than just one and two bedroom units.

• The bedroom mix of the proposed units is proportional to the need in the market area based on renter household size and the bedroom mix of existing units.

• The bedroom mix of fully accessible units (5 percent) is comparable to the bedroom mix of non-accessible units.

• The MFD shows evidence of need for the housing in that there are rent overburdened households and/or households in substandard housing.

• A discussion of existing housing supply includes reference to the single-family housing rental and sale units available and shows these to be inadequate.

• Temporary residents of a community, including college students, military personnel, or others not claiming their current residence as their legal domicile, have not been included in determining need and project size.

• The MFD includes a discussion on the current market for single-family houses and how sales, or the lack of sales, will affect the demand for elderly rental units. If the market study discusses how elderly homeowners reinforce the need for rental housing, it does so only as a secondary market and not as the primary market.

• The vacancy rates in existing rental housing, including available single-family housing and mobile homes, is 5 percent (or the State-approved vacancy standard, if different) or less, or there is an acceptable explanation where higher rates occur. Existing rental complexes should also show waiting lists.

• The CRCU shown is less than or equal to the rents proposed for the project.

• For proposals where the applicant is requesting LIHTCs, the number of LIHTC units and the maximum LIHTC incomes and rents by unit size are provided. Statistical data provided show that there are households in the tax credit-eligible income group to rent in the project. If not, rental assistance is requested.

• The MFD makes clear the amount of RA that is necessary to ensure the project's success.

ii. The analyst that completes the market study must provide the following certifications:

• The information presented is accurate to the best of the preparer's knowledge.

• Reliable sources were used to collect the information and data presented (for a study, the analyst has included a statement of qualifications).

• A site visit was made by the preparer or their representative.

• The analyst will not receive any fees that are contingent upon approval of the project by the Agency.

• The analyst will have no interest in the project.

jj. The market study must also include the following methodologies:

• A brief statement of the methodology used in the study has been included.

• All mathematical calculations are expressed in actual numbers, including percentages.

• Source references are identified for each table or section of the market study.

It is recommended that the provider include a copy of Attachment 4-F, located in HB-1-3560, Chapter 4 (https://www.rd.usda.gov/sites/default/files/3560-1chapter04.pdf), within the report and provide the page number of the report where it contains the information that satisfies each element of Attachment 4-F. The market study must be obtained from, and performed by, an independent third-party provider that has no identity of interest with the property owner, management agent, applicant or any other principal or affiliate. The market study must also include the following:

ii. If the applicant is seeking points for land donation, a narrative to explain how the land donation meets all of the requirements set forth in Section E(5) of this Notice.

iii. Evidence of site control, such as an executed option contract or sales contract. The option contract or sales contract must not be expired.

iv. A map and description of the proposed site, including the availability of water, sewer, and utilities and the proximity to community facilities and services such as shopping, schools, transportation, doctors, dentists, and hospitals. Off-FLH projects must comply with the site requirements in 7 CFR 3560.58 with the exception of the requirement that the property be located in a designated place.

v. A supportive services plan which describes services that will be provided on-site or made available to tenants through cooperative agreements with service providers in the community, such as a health clinic or day care facility. Off-site services must be accessible and affordable to farm workers and their families. A map showing the location of supportive services must be included. Letters of commitment from service providers to deliver services to tenants must be included. The plan must describe how the services will be funded. RA may not fund supportive services.

(e) Provide the following construction related documents:

i. Preliminary plans and specifications, including a plot plan, site plan with contour lines, floor plan for each living unit type and other spaces, such as laundry facilities, community rooms, stairwells, etc., building exterior elevations, typical building exterior wall section, building layouts, and type of construction and materials. The housing must meet RHS's design and construction standards contained in 7 CFR part 1924, subparts A and C, including meeting all current applicable building codes, and must also meet all applicable federal, state, and local accessibility standards and be in compliance with all building codes. Applications for Off-FLH loans and grants must also meet the design requirements in 7 CFR 3560.559.

ii. A description of the proposed interior/exterior washing facilities, if applicable. Applicants should consider incorporating interior/exterior washing facilities for tenants, as necessary to protect the housing and the tenants from excess dirt and chemical exposure. Such facilities might include a boot washing station or hose bibs, among others.

iii. Description and justification of related facilities as defined in 7 CFR 3560.11, and a schedule of separate charges for the related facilities.

iv. A checklist, certification, and signed affidavit by the project architect or engineer, as applicable, for any energy programs the applicant intends to participate in.

(f) Provide the following project financing information:

i. A Sources and Uses Statement which shows all sources of funding included in the proposed transaction. The terms and schedules of all sources included in the project should be included in the Sources and Uses Statement. (Note: A Section 516 grant may not exceed 90 percent of the TDC of the transaction)

ii. All applications that propose the use of any grant, non-amortizing leveraged funds, or similar funding source should submit commitment letters with their application, if available. If the applicant is unable to secure third-party firm commitment letters within 180 calendar days from the issuance of the award letter under this NOSA, the application will be deemed incomplete, the award letter will be considered null and void, and the applicant will be notified in writing that the application will be rejected.

iii. Description of how the applicant will meet the applicable equity contribution requirement.

(g) Provide the following environmental information:

i. Environmental information in accordance with the requirements in 7 CFR part 1970. The applicant is responsible for preparing and submitting the environmental review document in accordance with the format and standards provided by RHS in 7 CFR part 1970. Applicants may employ a design or environmental professional or technical service provider to assist them in the preparation of their environmental review documents at their own expense.

ii. Evidence of the submission of the project description to the applicable State Housing Preservation Office (SHPO), and/or Tribal Historic Preservation Officer (THPO) with the request for comments. A letter from the SHPO and/or THPO where the Off-FLH project is located stating they have reviewed the site and made a determination, signed by their designee, is required to demonstrate compliance.

iii. Intergovernmental review. Evidence of compliance with Executive Order 12372. The applicant must initiate the intergovernmental review by submitting the required information to the applicable State Clearinghouse. The applicant must provide documentation that the intergovernmental review process was completed. The applicant must also submit any comments that were received as part of this review to the agency. If no comments are received, the applicant must provide documentation that the review was properly initiated and that the required comment period has expired. Applications from Federally recognized Indian tribes are not subject to this requirement.

iv. FEMA Form 81-93, Standard Flood Hazard Determination.

v. Comments regarding relevant offsite environmental conditions, which could include but are not limited to, information on surrounding businesses or land uses such as abandoned buildings or facilities, landfills, and waste or water management facilities, etc. that may present an adverse impact to the proposed development.

(h) Provide the following budget and management information:

i. A proposed post-construction operating budget utilizing Form RD 3560-7, “Multiple Family Housing Project Budget/Utility Allowance” can be found at: http://forms.sc.egov.usda.gov/efcommon/eFileServices/eForms/RD3560-7.PDF.

RHS will review the budget to determine that the income and expenses are reasonable and customary for the area. RHS will also verify that the budget reflects the correct and estimated RHS debt service, number of units, unit mix, and proposed rents. Overall, RHS will review the budget for feasibility, accuracy, and reasonableness.

ii. An estimate of development costs utilizing Form RD 1924-13 “Estimate and Certificate of Actual Cost” can be found at: http://forms.sc.egov.usda.gov/efcommon/eFileServices/eForms/RD1924-13.PDF.

iii. If requesting RA or OA, Form RD 3560-25, “Initial Request for Rental Assistance or Operating Assistance” can be found at: http://forms.sc.egov.usda.gov/efcommon/eFileServices/eForms/RD3560-25.PDF.

If any of the required items listed above are not submitted within the pre-application in accordance with this Notice or are incomplete, the pre-application will be considered incomplete and will not be considered for funding.

RHS will not consider information from an applicant after the pre-application deadline. RHS may contact the applicant to clarify items in the application. RHS will uniformly notify applicants of each curable deficiency. A curable deficiency is an error or oversight that if corrected it would not alter, in a positive or negative fashion, the review and rating of the application. An example of a curable (correctable) deficiency would be inconsistencies in the amount of the funding request.

D. Preliminary Eligibility Assessment

RHS shall make a preliminary eligibility assessment using the following criteria:

1. The pre-application was received by the applicable submission deadlines specified in the Notice;

2. The pre-application is complete as specified by the Notice;

3. The applicant is an eligible entity and is not currently debarred, suspended, or delinquent on any Federal debt; and

4. The proposal is for authorized purposes.

E. Pre-Application Review and Scoring Information

RHS will accept, review, score, and rank pre-applications in accordance with this Notice. The maximum score that can be obtained is 106 points. Section 514 Off- FLH loan funds and Section 516 Off- FLH grant funds will be distributed to states based on a national competition, based on the following scoring criteria:

(1) Development Team Experience (up to 15 points). Applicants should demonstrate their team's (owner, including the General Partner of a partnership applicant, Developer and Management Company) recent experience in successfully completing the development of FLH and/or MFH projects in a timely manner. RHS will consider the applicant's experience with utilizing federal financing programs, including timely project completion and ensuring that Section 514/516 projects are occupied by eligible farmworker tenants. A firm resume must be provided for all sponsors/co-sponsors, including the management agent in order to receive points. The description or firm resumes must include any rental housing projects that the applicant team sponsored, owns, or operates. To score the highest number of points for this factor, applicants must describe significant previous experience in providing housing to generally and significant previous experience implementing affordable housing development activities. Points will be awarded as follows:

Low level of development experience (5 points)

Medium level of development experience (10 points)

High level of development experience (15 points)

(2) Market Conditions/Need for Farm Labor Housing (up to 15 points). The applicant must provide the required market study as described above in Section C, Pre-application and Submission Information, number 11. In particular, the applicant must ensure that the market study assesses the supply of eligible farmworkers that meet the tenancy requirements for the Section 514/516 program. Points will be awarded as follows:

a. Need (up to 10 points). Points will be awarded based on the absorption ratio. The absorption ratio is computed by dividing the number of units in the proposed project by the number of income eligible and farm labor eligible households within the primary market area.

Evidence of Strong Need (10 points). An absorption ratio of 15 percent or less.

Evidence of Need (5 points). An absorption ratio greater than 15 percent and less than 30 percent.

b. Diminished Needs Waivers in Primary Market Area. If the market study indicates that the primary market area for the property includes an existing Section 514/516 property, the Agency will determine if the existing property has been approved by the Agency for a Diminished Needs Waiver (DNW) due to a lack of qualified farmworker tenants. If a DNW is in place, the Agency will reduce the scoring by two (2) points in (a) to reflect a reduced need for the property.

c. Location and Access to Services (up to 5 points). Applicants must demonstrate that the location of the site supports FLH. The applicant must identify the location, the proximity, and ease of access of the project site to amenities important to the residents that supplement the services provided on- site. Applicants must describe how residents could reasonably access critical amenities. Amenities will generally be considered readily available if they are within one-half mile walking distance or they can be accessed by public transportation within one-quarter walking mile, and/or affordable private door-to-door shuttle/van service that is reliable and accessible. Applicants may commit to providing such transportation services if the nature of the commitment and the financing of the commitment is adequately described. Project funds cannot be used for this purpose. To score the maximum number of points on this factor, applicants must make a compelling argument that the location of the proposed project is well suited with respect to proximate amenities to meet the needs of farm workers. Documentation must be provided that clearly outlines the project site and its proximity to the applicable amenities. The site location will be rated on access to the following:

Health care and social services (1 point) (e.g. hospital, medical clinic, social service organization that offers services to farm workers);

Grocery stores (1 point) (e.g., supermarket or other store that sells produce and meat);

Recreational facilities (1 point) (e.g., parks and green space, community center, gym, health club, family entertainment venue, library);

Schools and civic facilities (1 point) (e.g., place of worship, schools, police or fire station, post office);

Other neighborhood-serving amenities (1 point) (e.g., apparel store, convenience store, pharmacy, bank, hair care, and restaurants).

(3) Ownership and Management Capacity (up to 15 points). Applicants should demonstrate that they have the experience and organizational resources to successfully own, operate and manage FLH on a long-term basis. In the case of co-sponsored applications, the rating will be based upon the combination of the experience of all co-sponsors in the area under review. In order to receive points, a firm resume must be provided for the applicant and all Sponsors/Co-Sponsors, including the management agent. Each resume must include FLH and MFH ownership and management experience, as applicable. In addition, the resume should include a description of all similar projects that the applicant and Sponsors/Co-Sponsors have been involved with, to include whether they were Federal housing projects, and information regarding the success of the projects. Points will be awarded as follows:

Low level of management experience (5 points)

Medium level of management experience (10 points)

High level of management experience (15 points)

(4) Leveraging Other Funds (up to 10 points). Points will be allocated for applications that leverage other funds based on the ratio of leveraged funds to total development cost (TDC). Leveraged funds are defined as non-Section 514/516 funds, including third-party funds from equity, grants, loans and deferred developer fees. To receive points, the proposal must serve tenants meeting Agency income limits at basic rents comparable to what the rent would be if the Agency provided full financing. These comparable rents will be determined by the Agency. Points are calculated as follows:

Leveraged funds/TDC is greater than 80%: 10 points

Leveraged funds/TDC is 60% to 79%: 8 points

Leveraged funds/TDC is 40% to 59%: 6 points

Leveraged funds/TDC is 20% to 39%: 4 points

Leveraged funds/TDC is 5% to 19%: 2 points

(5) Land Donation (5 points). Points are provided if the proposal uses a donated site which meets the following conditions: (A) The site is donated by a state, unit of local government, public body or a nonprofit organization; (B) The site is suitable for the housing proposal and meets Agency requirements in accordance with § 3560.56 (c) (1) (iv); (C) Site development costs do not exceed what they would be to purchase and develop an alternative site; (D) The overall cost of the FLH is reduced by the donation of the site; and (E) A return on investment is not paid to the borrower for the value of the donated site nor is the value of the site considered as part of the borrower's contribution. If the applicant is seeking points for land donation, provide a narrative to explain how the land donation meets all of the requirements.

(6) Operational cost savings (up to 5 points). The presence of outside funding sources that contribute to operational cost savings, such as tax abatements, non-RHS tenant subsidies or donated services, are calculated on a per-unit cost savings for the sum of the savings. Savings must be available for at least 15 years and documentation must be provided within the pre-application demonstrating the availability of savings for 15 years. To calculate the savings, take the total amount of savings and divide it by the number of units in the project that will benefit from the savings to obtain the per-unit cost savings. For example, a 10- unit property receiving $30,000 per year non-RHS subsidy yields a cost savings of $450,000 ($30,000 × 15 years); resulting in a $3,000 per-unit per-year cost savings ($450,000/10 units/15 years). Documentation must be provided within the pre-application that verifies the presence of operational cost savings. Points will be awarded relative to the amount of operating cost savings obtained by other NOSA applicants:

Per-unit operating costs saving amount is among the top 50% of applicants: (5 points)

Per unit operating cost savings are demonstrated, but are not among the top 50% of applicants: (3 points)

No per-unit operating cost savings are demonstrated: (0 points)

(7) Targeted Locations (5 points). Points will be awarded to proposals that provide rental units in a colonia, on Tribal land, Rural Economic Area Partnership (REAP) community, Enterprise Zone or Empowerment Community (EZ/EC) or in a place identified in the state Consolidated Plan or a state needs assessment as a high need community for MFH. Documentation must be provided within the pre-application that verifies the property is located in one of the targeted locations.

(8) Tenant Support Services (up to 5 points). Points will be allocated for the presence of tenant supportive services. One point will be awarded for each tenant service included in the tenant supportive services plan up to a maximum of 5 points. In order to receive points, the tenant support services plan must describe the proposed supportive services, including a description of the public or private funds that are expected to fund the proposed services as well as the way the services will be delivered, who will administer them, and where they will be administered. All tenant service plans must include letters of intent that clearly state the service that will be provided at the project for the benefit of the residents from any party administering each service, including the applicant. These services may include, but are not limited to, transportation-related services, on-site English as a Second Language classes, move-in funds, emergency assistance funds, homeownership counseling, food pantries, after school tutoring, and computer learning centers. The proposed supportive services plan must describe how the services will meet the identified needs of the tenants and how the services will be provided on a consistent, long-term basis to support the tenants. The plan must clearly state how the services will be funded. RA, OA and project funds may not be used to pay for these services.

(9) Rural Communities (5 points). Although a rural area location is not required for the Section 514/516 program, points will be awarded to properties located in MFH eligible rural areas. Applicants must include a copy of the map demonstrating the project is located in an eligible rural area. MFH eligible areas are found on the following website: Eligibility (usda.gov)

(10) Creating More and Better Markets (5 points). Assisting Rural communities to recover economically through more and better market opportunities and through improved infrastructure. Priority points will be awarded if the project is located in or serving a rural community whose economic well-being ranks in the most distressed tier of the Distressed Communities Index. The Distressed Communities Index provides a score between 1-100 for every community at the zip code level. The most distressed tier of the index are those communities with a score over 80. Please use the Distressed Communities Index Look-Up Map to determine if your project qualifies for priority points. Provide a copy of the map showing the project is eligible to claim points. Note: US Territories are considered distressed and qualify for priority points. For additional information on data sources used for this priority determination, please download the Data Sources for Rural Development Priorities document. Additional information for priority points can be found on the following website: https://www.rd.usda.gov/priority-points.

(11) Advancing Racial Justice, Place-Based Equity, and Opportunity (5 points). Ensuring all rural residents have equitable access to RD programs and benefits from RD funded projects. Priority points will be awarded if the project is located in or serving a community with score 0.75 or above on the CDC Social Vulnerability Index. Please use Social Vulnerability Index Map to look up map or list to determine if your project qualifies for priority points. Provide a copy of the map showing the project is eligible to claim points. Applications from Federally Recognized Tribes, including Tribal instrumentalities and entities that are wholly owned by Tribes, will receive priority points. Federally Recognized Tribes are classified as any Indian or Alaska Native tribe, band, nation, pueblo, village, or community as defined by the Federally Recognized Indian Tribe List Act (List Act) of 1994 (Pub. L. 103-454). Please refer to the Bureau of Indian Affairs for a listing of Federally Recognized Tribes. Additionally, projects where at least 50% of the project beneficiaries are members of Federally Recognized Tribes, will receive priority points if applications from non-Tribal applicants include a Tribal Resolution of Consent from the Tribe or Tribes that the applicant is proposing to serve. Note: US Territories are considered socially vulnerable and qualify for priority points. For additional information on data sources used for this priority determination, please download the Data Sources for Rural Development Priorities document. Additional information for priority points can be found on the following website: https://www.rd.usda.gov/priority-points.

(12) Addressing Climate Change and Environmental Justice (up to 5 points). Increasing resilience to the impacts of climate change through economic support to rural communities. Applicants can receive priority points through the options listed below.

Option 1 (5 points). Priority points will be awarded if the project is in or serves a Disadvantaged Community as defined by the Climate and Economic Justice Screening Tool (CEJST), from the White House Council on Environmental Quality (CEQ). CEJST is a tool to help Federal agencies identify disadvantaged communities that will benefit from programs included in the Justice40 initiative. Census tracts are considered disadvantaged if they meet the thresholds for at least one of the CEJST's eight (8) categories of burden: Climate, Energy, Health, Housing, Legacy Pollution, Transportation, Water and Wastewater, or Workforce Development.

OR;

Option 2 (5 points). Priority points will be awarded if the project is in or serves an Energy Community as defined by the Inflation Reduction Act (IRA). The IRA defines energy communities as:

A “brownfield site” (as defined in certain subparagraphs of the Comprehensive Environmental Response, Compensation, and Liability Act of 1980 (CERCLA))

A “metropolitan statistical area” or “non-metropolitan statistical area” that has (or had at any time after 2009) 0.17% or greater direct employment or 25% or greater local tax revenues related to the extraction, processing, transport, or storage of coal, oil, or natural gas; and has an unemployment rate at or above the national average unemployment rate for the previous year

A census tract (or directly adjoining census tract) in which a coal mine has closed after 1999; or in which a coal-fired electric generating unit has been retired after 2009.

To determine if your project qualifies for priority points under Option 1 or Option 2, please use the Disadvantaged Community & Energy Community Look-Up Map on the following website: https://www.rd.usda.gov/priority-points. Provide a copy of the map showing the project is eligible to claim points.

(13) Building Performance and Climate Resilience (11 points maximum).

A. Disaster Resilient Construction Practices and Standards (Up to 3 points). Constructing buildings to be of good quality at the outset will ensure the long-term durability, health, safety, operational efficiency, and asset quality into the future. Addressing location specific hazards may also offer applicants an opportunity to lower insurance premiums.

The FEMA National Risk Index (NRI) https://hazards.fema.gov/nri/map. identifies the following hazards, which may occur simultaneously: Avalanche, coastal flooding, cold wave, drought, earthquake, hail, heat wave, hurricane, ice storm, landslide, lightening, riverine flooding, strong wind, tornado, tsunami, volcanic activity, wildfire, winter weather. The FEMA mapping tool allows a report to be generated for the County level and the Census track level. The applicant should use the tool to create a report based on the address of the proposed project at the Census track level. This report should be included in the application in order to obtain points in this category.

USDA RD was involved in the authorship of the collaborative creation of guides to builders on resilient construction techniques germane to Natural Hazards. Five volumes include: wind, water, fire, earth, and auxiliary hazards. https://www.huduser.gov/portal/publications/Designing-for-Natural-Hazards-Series.html.

(i) Disaster Resilient Construction (1 point). Applicants seeking to earn 1 point for Disaster Resilient construction must submit a signed commitment from the applicant that the project will be designed and constructed using the most current suite of codes published by the International Code Council, including the International Building Code 2021 without weakening amendments, or a more stringent code, and shall articulate the specific measures that will be carefully taken to mitigate the impact of pertinent natural hazards impacting the project location. In order to obtain points, the applicant must also provide a certification from a licensed professional architect or engineer that the building plans meet these standards and that the final building plans, if not yet available, will meet these standards.

(ii) Addressing Specific Hazards (2 points) In addition to best practices illustrated in the Natural Hazard guides, there are some industry standards that address specific hazards. To obtain points in this category, applicants must commit to additional compliance beyond the building code, with the industry standard resilience programs such as those listed below, and must illustrate this through commitments signed by the applicant and key leaders of the project development team, including the lead developer, architects, engineers, and special consultants if applicable. Applicants can obtain points by illustrating the specific hazard(s) germane to the location of the project and committing to participate in an industry standard program designed to address the identified risk(s). The applicant must also submit a certification from a licensed professional architect or engineer that the building plans comply with the standards of the identified resilience program and that the final building plans, if not yet available, will comply with such standards.

• Strong Wind, Hurricane, Tornado, Hail: Institute for Business and Home Safety (IBHS) FORTIFIED programs that address high-wind, hail, hurricane and up to CAT 3 tornado risk. https://fortifiedhome.org/fortified-multifamily/

• Wildfire: 2021 Wildland Urban Interface (WUI) Code https://planningforhazards.com/wildland-urban-interface-code-wui-code.

NFPA Firewise USA https://www.nfpa.org/education-and-research/wildfire/firewise-usa.

• Riverine, Coastal, or Pluvial Flooding—Federal Flood Risk Management Standard (FFRMS) (required as of January 1, 2024)

• Wholistic Multihazard—RELi is a holistic third-party rating system that can be used for both individual buildings and communities, addressing multi-hazards and deeper community resilience. https://c3livingdesign.org/reli/.

B. Green Building Standards: (3-6 points). The complex processes of design and construction of buildings have interwoven choices that have potential to protect the health, safety, and welfare of not only its occupants but also every part of the supply chain and lives of human beings within that ecosystem. Development has the potential to improve lives, create communities, elevate economies, and heal ecosystems if done well. Achieving certification from one or more of the green building standard programs listed below will yield a maximum of 3 points for achievement of an above-code, green building standard, with an additional 3 points possible for full zero energy achievements, for a total of 6 points maximum.

(i) Green Building Program Participation (3 points)

• EPA's Energy Star Multifamily Certification or Energy Star Next Gen https://www.energystar.gov/partner_resources/residential_new/homes_prog_reqs/multifamily_national_page.

• DOE Zero Energy Ready Homes https://www.energy.gov/eere/buildings/zero-energy-ready-homes.

• Earth Advantage https://www.earthadvantage.org/.

• Earthcraft Gold or Platinum https://earthcraft.org/programs/earthcraft-house/.

• Green Communities program by the Enterprise Community Partners (2020 Criteria, EGC + Zero Ready/Phius) https://www.enterprisecommunity.org/solutions-and-innovation/green-communities.

• Greenpoint Gold or Platinum. https://www.greenpointrated.com/greenpoint-rated/.

• The National Green Building Standard (NGBS)—Multifamily and Mixed Use (four levels of base certification, plus *NGBS Green + NET ZERO ENERGY CERTIFICATION) https://www.homeinnovation.com/services/certification/green_homes/multifamily_certification.

• International Living Future Institute (ILFI) Living Building Challenge (LBC 4.0—Core Building Certification, *Zero Energy, *Zero Carbon). https://living-future.org/lbc/.

• LEED V4 Homes and Multifamily Midrise, or LEED BD+C: Homes and Multifamily Lowrise LEED BD+C: Multifamily Midrise (four levels of certification, plus *LEED Zero) https://www.usgbc.org/resources/leed-v4-homes-and-multifamily-midrise-current-version.

• Passive House Institute US, Inc. (Phius Core, *Phius Zero) https://multifamily.phius.org/service-category/phius-within-reach.

(ii) Zero Energy Buildings (3 points maximum). Points will be awarded for achievements of deep energy efficiency and transitions toward Zero Energy Building Performance for projects that have already committed to compliance with at least Energy Star for Homes program, with the additional following performance achievement commitments. For Energy Star and other programs, a Home Energy Rating System (HERS score) is a potential pathway for assessment of energy performance achievement. A HERS score of 100 is the benchmark of an average home, and scores that are lower than 100 illustrate a percentage of improved performance from that average. A HERS 85 would mean that the unit performs 15% better than the average housing unit. A HERS 0 means that the housing unit has achieved net zero—that there is enough on-site renewable energy to cover its consumption needs. HERS 42 is an approximate benchmark that indicates that improved energy performance achievements in performance will require the addition of on-site renewable energy sources. Energy modeling that illustrates the achievements of the following progressively successful achievements will be awarded the following points:

• (1 point) HERS 42 or lower and all-electric

• (2 points) HERS 42 or lower, all-electric, and 10% on-site renewable energy

• (3 points) HERS 0 or lower, all-electric, and 100% on-site renewable energy

Applicants aspiring to achieve net zero energy are encouraged to choose a program from the list of green building programs above that has a Zero Energy achievement adder or separately designed track. These programs have asterisks next to them and include programs such as the Phius Zero program, the ILFI Zero Energy or Zero Carbon Program, the NGBS Green + NET ZERO ENERGY CERTIFICATION or LEED Zero. Working within a guided program will assist the applicant in ensuring successful achievement of zero energy goals.

Applicants must submit the corresponding checklist, registrations in programs, and signed affidavits by the owner, the architect, applicable mechanical, electrical plumbing, and structural engineers, and other program-required green building professionals, energy modelers and raters as applicable to the programs selected for point consideration.

C. Water Conservation (1 point). One (1) point will be awarded for xeriscaping of site landscaping and/or water conservation in irrigation measures to include a recycled water (gray water or storm water) for landscape irrigation covering 50 percent or more of the property's site landscaping needs. In order to receive this point, the applicant's architect or consulting landscape architect must illustrate in narrative, draft specifications, and schematic drawings how this will be achieved.

D. Property Management Credentials (1 point). Projects may be awarded one (1) point if the designated property management company or individuals that will assume maintenance and operation responsibilities upon completion of construction work have a Credential for Green Property Management. Credentialing can be obtained from the National Apartment Association (NAA), National Affordable Housing Management Association, The Institute for Real Estate Management, U.S. Green Building Council Leadership in Energy and Environmental Design (USGBC LEED) for Operations and Maintenance, or another source with a certifiable credentialing program. Credentialing must be illustrated in the resume(s) of the property management team and included with the application in order to receive the point.

Additional requirement: All projects awarded scoring points for energy initiatives must enroll the project in the EPA Portfolio Manager program and the associated EPA Water Score program to track post construction energy consumption data as well as water usage. More information about this program may be found at: https://www.energystar.gov/buildings/benchmark.

F. Federal Award Administration Information

1. Review and Selection Process

All pre-applications must be received by the due dates specified in this Notice. Applications or application materials received after the deadline will not be considered. Each application will be reviewed for overall completeness, as well as compliance with eligibility and program requirements set forth in this Notice. If an application does not meet these requirements, it will be removed from consideration and will not be scored. For applications found ineligible or incomplete, RHS will send notices of ineligibility that provide notice of any applicable appeal rights under 7 CFR part 11.

RHS will rank all eligible and complete pre-applications nationwide by score, highest to lowest. Taking into account available funding, the 10 percent persistent poverty counties set-aside, and the 30 percent limitation per state, RHS will determine which pre-applications will be selected for further processing starting with the highest scoring pre-application. RHS will notify applicants with pre-applications found eligible and selected for further processing.

When proposals have an equal score and not all pre-applications can be funded, preference will be given first to Indian tribes as defined in § 3560.11, then local non-profit organizations or public bodies whose principal purposes include low-income housing and that meet the conditions of § 3560.55(c) and the following conditions:

• Is exempt from Federal income taxes as a public body or under section 501(c)(3) or 501(c)(4) of the Internal Revenue Code;

• Is not wholly or partially owned or controlled by a for-profit or limited- profit type entity;

• Whose members, or the entity, do not share an identity of interest with a for-profit or limited-profit type entity;

• Is not co-venturing with a for-profit or limited-profit type entity; and

• The entity or its members will not be receiving any direct or indirect benefits pursuant to the Low Income Housing Tax Credit Program (LIHTC).

If after all of the above evaluations are completed and there are two or more pre-applications that have the same score, and all cannot be funded, a lottery will be used to break the tie. The lottery will consist of the names of each pre-application with equal scores printed onto a same size piece of paper, which will then be placed into a receptacle that fully obstructs the view of the names. The Director of the RHS Production and Preservation Division, in the presence of two witnesses, will draw a piece of paper from the receptacle. The name on the piece of paper drawn will be the applicant to be funded.

If insufficient funds or RA/OA remain for the next ranked proposal, that applicant will be given a chance to modify their pre-application funding request to bring it within the remaining available funding. This will be repeated for the next ranked eligible proposal until an award can be made or the list is exhausted.

If a pre-application is selected and the applicant declines, the next highest ranked pre-application will be selected.

Applicants will be notified if there are insufficient funds available for the proposal, and such notification is not appealable.

2. Administrative and National Policy

All FLH loans and grants are subject to the restrictive-use requirements contained in 7 CFR 3560.72(a)(2).

For Section 516 Off-FLH grant awardees, a FLH grant agreement, prepared by RHS, must be dated and executed by the applicant on the date of closing. The grant agreement will remain in effect for so long as there is a need for the housing and will not expire until an official determination has been made by RHS that there is no longer a need for the housing.

The applicant's Board of Directors must adopt a resolution in a form acceptable to the RHS stating that the Board has read and fully understands the grant agreement and understands that the grant agreement will remain in effect until RHS determines that there is no longer a need for the housing.

3. Reporting

Borrowers must maintain separate financial records for the operation and maintenance of the project and for tenant services. Tenant services will not be funded by RHS. Funds allocated to the operation and maintenance of the project may not be used to supplement the cost of tenant services, nor may tenant service funds be used to supplement the project operation and maintenance. Detailed financial reports regarding tenant services will not be required unless specifically requested by RHS, and then only to the extent necessary for RHS and the borrower to discuss the affordability (and competitiveness) of the service provided to the tenant. The project audit, or verification of accounts on Form RD 3560-10, “Multifamily Housing Borrower Balance Sheet” together with an accompanying Form RD 3560-7, “Multiple Family Housing Project Budget/Utility Allowance” must allocate revenue and expenses between project operations and the tenant services component.

G. Final Application and Submission Information

1. Final Application Submission Process

The pre-applications that are selected for further processing will be invited to submit final applications. In the event that a pre-application is selected for further processing and the applicant declines, the next highest ranked pre-application will be selected for further processing. The final applications will be due by the dates specified in this Notice.

All final applications must be submitted to RHS and must meet the requirements of this Notice. The final application submission process will be the same as previously explained and outlined for the pre-application submission process in Section C 1, “Pre-Application and Submission Information.” Final applications that are incomplete as of the deadline will be rejected and returned to the applicant. No final applications or application materials will be accepted after the deadline unless the date and time are extended by another Notice published in the Federal Register.

A final application in accordance with this Notice must be submitted and approved by RHS prior to the obligation of funds. RHS will follow this Notice for the processing of final applications. Awards will require a determination from RHS that the project is feasible and meets all applicable program requirements as stated in this Notice and in RHS regulations. If there are insufficient funds available to fund all eligible final applications, awards will be made in accordance with the Review and Selection Process described in Section F.1 of this Notice.

2. Final Application Requirements

In addition to the items listed below, the final application must contain any document that was submitted within the pre-application that has since changed or needs to be updated. The Agency will advise the applicant of any documents that are required to be updated. The applicant may also change or update additional documents at the applicant's discretion. The following new documents must be submitted:

(a) A narrative that contains a description of any changes from the pre-application submission.

(b) Provide the following forms and certifications:

a. Form RD 400-1, “Equal Opportunity Agreement” can be found at: https://forms.sc.egov.usda.gov/eForms/browseFormsAction.do?pageAction=displayPDF&formIndex=1.

b. Form RD 400-6, “Compliance Statement” can be found at: https://forms.sc.egov.usda.gov/eForms/browseFormsAction.do?pageAction=displayPDF&formIndex=4.

(c) Provide the following financial and organizational information:

a. Final organizational documents and Certificate of Good Standing.

b. Description of how the applicant will meet the equity contribution requirement as applicable.

c. Description of how the applicant will provide the two percent initial operating and maintenance reserve requirement.

(d) Provide the following Project information:

a. Current Preliminary title insurance commitment/binder.

b. Land survey with flood plain certification.

(e) Provide the following construction documents:

a. Final plans and specifications along with the proposed manner of construction, if available. The housing must meet RHS's design and construction standards contained in 7 CFR part 1924, subparts A and C, and must also meet all applicable Federal, state, and local accessibility standards and be in compliance with all current building codes. The final plans and specifications, along with the proposed manner of construction, are not required to be submitted prior to the final application deadline. However, these documents must be submitted prior to the approval of the final application. The Agency will communicate to applicants the deadline to submit these documents.

b. Final construction planning, bidding, and contract documents, including, but not limited to the construction contract and architectural agreement, if available. The final construction planning, bidding, and contract documents, including the construction contract and architectural agreement, etc., are not required to be submitted prior to the final application deadline. However, these documents must be submitted prior to the approval of the final application. The Agency will communicate to applicants the deadline to submit these documents.

(f) Provide the following financing information:

a. All applications that propose the use of any leveraged funds should submit firm commitment letters within their final application, if available. Applicants dependent upon third-party funding, including but not limited to local-, state-, and federal resources through competitive and noncompetitive application rounds, must obtain and submit to the Agency a satisfactory commitment of those funds, as determined by the Agency, upon receipt, but no later than the twelve-month time frame, as specified in the award commitment. An extension of the award commitment of up to six months may be given, at the sole discretion of the Agency, and will be based on project viability, current program demand, and availability of program funds. Applicants unable to satisfy this condition of the award commitment will be subject to having the award rescinded and will be required to reapply in future funding announcements.

(g) Provide the following budget and management information:

a. Final proposed Form RD 1924-13, “Estimate and Certificate of Actual Cost.”

b. Final proposed post-construction operating budget utilizing Form RD 3560-7, “Multiple Family Housing Project Budget/Utility Allowance.”

c. Form RD 3560-13, “Multifamily Project Borrower's/Management Agent's Management Certification” if applicable, can be found at: https://forms.sc.egov.usda.gov//efcommon/eFileServices/eForms/RD3560-13.PDF.

d. Management plan with all attachments including the proposed record keeping system, the proposed lease with an attorney's certification, if applicable, and the proposed occupancy rules.

e. Management Agreement, if applicable.

f. For projects that have five or more rental units, an Affirmative Fair Housing Marketing Plan (AFHMP) as defined in 24 CFR part 200, subpart M, in accordance with 7 CFR 1901.203(c). The AFHMP will reflect that occupancy is open to all qualified “domestic farm laborers,” regardless of which farming operation they work for, and that they will not discriminate on the basis of race, color, sex, age, disability, marital or familial status or National origin in regard to the occupancy or use of the units. The AFHMP must include all attachments and supporting documentation.

Indian Tribes, including instrumentalities of such Indian Tribes, are not required to comply with certain aspects of the AFHMP guidelines above, and may allow members of Indian Tribes to be given preference for housing. The Native American Housing Enhancement Act of 2005 (NAHEA), Public Law 109-136, Codified at 25 U.S.C. 4101 et seq., amended Title V of the Housing Act of 1949 (42 U.S.C. 1471 et seq.) which created the housing programs administered by the United States Department of Agriculture, Rural Housing Service. The NAHEA excludes Indian Tribes, including instrumentalities of such Indian Tribes, from the requirement to comply with Title VI of the Civil Rights Act of 1964, and Title VIII of the Civil Rights Act of 1968, allowing members of Indian Tribes to be given preference for housing in accordance to the Native American Housing Assistance and Self Determination Act of 1996 (25 U.S.C. 4101 et seq.).

The NAHEA does not exempt Indian Tribes from complying with other laws that apply to recipients of Federal financial assistance. Therefore, Federally recognized Indian Tribes must continue to comply with Section 504 of the Rehabilitation Act of 1973, the Age Discrimination Act of 1975, and Title IX of the Education Amendments Act of 1972, where applicable. The NAHEA also does not exempt Indian Tribes from complying with the accessibility requirements of the Fair Housing Amendments Act (FHAA) of 1988. This Act amended Title VIII of the Fair Housing Act of 1968, to include disability and familial status. Therefore, the NAHEA did not specifically exempt Indian Tribes from the accessibility requirements of the FHAA. The requirements to construct multi-family housing properties accessible to, or adaptable for, persons with disabilities are to be followed. This requirement shall be consistent with 7 CFR 3560.60(d).

(h) Provide the following third-party reports:

a. Acceptable appraisal. Appraisals for applications requesting an Off-FLH loan may be conditioned but will be required prior to closing. Please refer to the Agency's appraisal guidance under the “To Apply” tab on the Off-Farm Labor Housing Direct Loans & Grants website (https://www.rd.usda.gov/programs-services/multifamily-housing-programs/farm-labor-housing-direct-loans-grants#to-apply).

b. A Capital Needs Assessment (CNA) is not required. When underwriting new construction applications, the Agency will require an initial and ongoing capitalization of the replacement reserve account to address future replacement reserve-eligible needs. This shall be reflected in the applicant's development budget as an Initial Deposit for Replacement Reserve (IDRR) in an amount equal to $250 per-unit. The Annual Deposit for Replacement Reserve (ADRR) requirements shall be reflected in the operating budget and shall be the lower of the following:

i. 0.2% of the Total Development Costs (TDC) per unit.

ii. $450 per unit.

iii. An amount determined to be acceptable, at the sole discretion of the agency based on the underwriting analysis, that is required by another participating state or federal: program, lender, or investor in the proposed transaction.

H. Documentation of Underwriting and Costs

All final applications including the loan and/or grant requests will be analyzed using an underwriting template that RHS has developed. A complete analysis and underwriting of the proposed transaction will be completed to ensure all regulatory requirements are met and to ensure overall project feasibility as well as to determine the minimum amount of assistance that is needed for the proposal. Proposals that are determined not to be feasible will not receive funding.

Questions regarding this Notice may be directed to Jonathan Bell, Branch Director, Processing and Report Review Branch, Production and Preservation Division, Multifamily Housing Program, Rural Development, United States Department of Agriculture, or email: MFHprocessing1@usda.gov or phone at: 800-292-8293.

I. Technical Assistance Providers

Please be aware that TA services may not be used to reimburse a non-profit or public body applicant for technical services provided by a non-profit organization, with housing and/or community development experience, to assist the non-profit applicant entity in the development and packaging of its loan/grant docket and project. In addition, TA will not be funded by RHS when an identity of interest exists between the TA provider and the loan or grant applicant. Identity of interest is defined in 7 CFR 3560.11.

J. Applicant Assistance

The RHS plans to host a workshop to discuss this Notice, the application process, and the borrower's responsibilities, among other topics. Further information regarding the date and time of this workshop, as well as information on how to participate in the workshop will be issued at a later date in a public notice via GovDelivery. Click here to sign up for notifications from Rural Development.

Prior to the submission of an application, the applicant is encouraged to schedule a concept meeting with RHS to discuss the application process, the specifics of the proposed project, and the borrower's responsibilities under the Off-FLH new construction program, among other topics.

Concept meetings will be scheduled between the dates of May 6, 2024 and May 31, 2024. No concept meetings will be scheduled outside of the specified dates.

Requests for concept meetings can be sent to the following email address: MFHprocessing1@usda.gov and must be received by May 20, 2024. The email must contain the following information:

(1) Subject line: “Off-FLH New Construction Concept Call Request.”

(2) Body of email: Borrower Name, Project Name, Borrower Contact Information, Project State.

(3) Request language: “We request to schedule a concept call to discuss our proposed application for the Off-FLH New Construction NOSA.”

K. Equal Opportunity Survey

RHS will provide applicants the voluntary OMB 1890-0014 form, “Survey on Ensuring Equal Opportunity for Applicants,” (or other forms currently being used by RHS) and ask the applicant to complete it and return it to RHS.

L. Substantial Portion of Income From Farm Labor

The Notice restates the requirement that domestic farm laborers must receive a substantial portion of their income from “farm labor.” Further explanation of this requirement can be found in the regulation at 7 CFR 3560.576(b)(2). The term “farm labor” is defined in 7 CFR 3560.11.

M. Build America, Buy America Act

Funding to Non-Federal Entities. Awardees that are Non-Federal Entities, defined pursuant to 2 CFR 200.1 as any State, local government, Indian tribe, Institution of Higher Education, or nonprofit organization, shall be governed by the requirements of Section 70914 of the Build America, Buy America Act (BABAA) within the Infrastructure Investment and Jobs Act (Pub. L. 117-58), and its implementing regulations at 2 CFR part 184. Any requests for waiver of these requirements must be submitted pursuant to USDA's guidance available online at https://www.usda.gov/ocfo/federal-financial-assistance-policy/USDABuyAmericaWaiver.

N. Equal Opportunity and Non-Discrimination Requirements

In accordance with federal civil rights law and USDA civil rights regulations and policies, USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language, etc.) should contact the responsible Mission Area, agency, staff office; or the 711 Relay Service. Additionally, program information may be made available in languages other than English.

To file a program discrimination complaint, a complainant should complete Form AD-3027, USDA Program Discrimination Complaint Form, which can be obtained online at https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights about the nature and date of an alleged civil rights violation.

The completed AD-3027 form or letter must be submitted to USDA by:

(1) Mail: United States Department of Agriculture, Office of the Assistant Secretary for Civil Rights, 1400 Independence Avenue SW, Washington, DC 20250-9410;

(2) Fax: (202) 690-7442; or

(3) Email at: program.intake@usda.gov.

USDA is an equal opportunity provider, employer, and lender.

Joaquin Altoro,
Administrator, Rural Housing Service.

[FR Doc. 2024-08155 Filed 4-18-24; 8:45 am]

BILLING CODE 3410-XV-P